DEPARTMENT OF ENERGY

Federal Energy Regulatory Commission

Combined Notice of Filings #2

Take notice that the Commission received the following electric corporate filings:

Docket Numbers: EC25-122-000.

Applicants: BP Wind Energy North America Inc., Capacitor Acquisition, LLC.

Description: Joint Application for Authorization Under Section 203 of the Federal Power Act of BP Wind Energy North America Inc., et al.

Filed Date: 7/31/25.

Accession Number: 20250731-5288.

Comment Date: 5 p.m. ET 9/15/25.

Take notice that the Commission received the following electric rate filings:

Docket Numbers: ER10-2818-015; ER10-2806-015; ER13-2386-012; ER18-1984-008; ER23-2750-004; ER23-2751-004; ER23-2752-004.

Applicants: White Rock Wind West, LLC, White Rock Wind East, LLC, Horizon Hill Wind, LLC, Big Level Wind LLC, Lakeswind Power Partners, LLC, TransAlta Energy Marketing (U.S.) Inc., TransAlta Energy Marketing Corporation.

Description: Notice of Non-Material Change in Status of TransAlta Energy Marketing Corporation, et al.

Filed Date: 7/31/25.

Accession Number: 20250731-5278.

Comment Date: 5 p.m. ET 8/21/25.

Docket Numbers: ER25-2410-001.

Applicants: Green Grid Energy LLC.

Description: Tariff Amendment: Response to Deficiency Notice to be effective 8/2/2025.

Filed Date: 8/5/25.

Accession Number: 20250805-5173.

Comment Date: 5 p.m. ET 8/26/25.

Docket Numbers: ER25-3086-000.

Applicants: PJM Interconnection, L.L.C.

Description: § 205(d) Rate Filing: Original Necessary Studies Agreement SA No. 7716; Project Identifier No. AF2-132 to be effective 7/7/2025.

Filed Date: 8/5/25.

Accession Number: 20250805-5104.

Comment Date: 5 p.m. ET 8/26/25.

Docket Numbers: ER25-3087-000.

Applicants: PJM Interconnection, L.L.C.

Description: § 205(d) Rate Filing: Amendment to Service Agreement No. 6822; Queue Position No. AF1-328 to be effective 10/5/2025.

Filed Date: 8/5/25.

Accession Number: 20250805-5107.

Comment Date: 5 p.m. ET 8/26/25.

Docket Numbers: ER25-3088-000.

Applicants: Bowman Wind, LLC.

Description: Initial Rate Filing: Application for Market-Based Rate Authority to be effective 10/15/2025.

Filed Date: 8/5/25.

Accession Number: 20250805-5144.

Comment Date: 5 p.m. ET 8/26/25.

Docket Numbers: ER25-3089-000.

Applicants: Mid-Atlantic Interstate Transmission, LLC.

Description: Mid-Atlantic Interstate Transmission, LLC submits Notice of Cancellation of the Susquehanna Eastern 500 kV Transmission System Agreement, dated 04/30/1976.

Filed Date: 7/31/25.

Accession Number: 20250731-5287.

Comment Date: 5 p.m. ET 8/21/25.

Docket Numbers: ER25-3090-000.

Applicants: Cleco Cajun LLC.

Description: Tariff Amendment: Notice of Cancellation of Market-Based Rate Tariff to be effective 8/6/2025.

Filed Date: 8/5/25.

Accession Number: 20250805-5175.

Comment Date: 5 p.m. ET 8/26/25.

Docket Numbers: ER25-3091-000.

Applicants: Invenergy California Offshore LLC.

Description: Petition for Limited Waiver of Invenergy California Offshore LLC.

Filed Date: 8/4/25.

Accession Number: 20250804-5195.

Comment Date: 5 p.m. ET 8/25/25.

Take notice that the Commission received the following electric securities filings:

Docket Numbers: ES25-56-000; ES25-57-000; ES25-58-000.

Applicants: Indiana Michigan Power Company, Appalachian Power Company, AEP Texas Inc.

Description: Application Under Section 204 of the Federal Power Act for Authorization to Issue Securities of AEP Texas Inc., et al.

Filed Date: 7/31/25.

Accession Number: 20250731-5274.

Comment Date: 5 p.m. ET 8/21/25.

Docket Numbers: ES25-59-000; ES25-60-000; ES25-61-000; ES25-62-000; ES25-63-000; ES25-64-000.

Applicants: Wheeling Power Company, Southwestern Electric Power Company, Public Service Company of Oklahoma, Kingsport Power Company, Kentucky Power Company, AEP Generating Company.

Description: Application Under Section 204 of the Federal Power Act for Authorization to Issue Securities of AEP Generating Company, et al.

Filed Date: 7/31/25.

Accession Number: 20250731-5277.

Comment Date: 5 p.m. ET 8/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: August 5, 2025.
Debbie-Anne A. Reese,
Secretary.

[FR Doc. 2025-15145 Filed 8-8-25; 8:45 am]

BILLING CODE 6717-01-P